DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Basic Requirements for Special Exception Permits and Authorizations to Take, Import and Export Marine Mammals, and Endangered and Threatened Species, and for Maintaining a Captive Marine Mammal Inventory Under the Marine Mammal Protection Act, the Fur Seal Act, and the Endangered Species Act.

OMB Control Number: 0648-0084.

Form Number(s): NOAA 89-880.

Type of Request: Regular submission.

Number of Respondents: 514.

Average Hours Per Response: Scientific research and/or enhancement (SR/EN) permit application, 50 hours; public display (PD) permit application, 30 hours; photography (PH) and general authorization for research permit applications, 10 hours; major amendments to existing permits and authorizations, 35 hours; minor amendments and general authorization changes, 3 hours; SR/EN reports, 12 hours; PD and PH reports and PD inventories, 2 hours; general authorization reports, 8 hours; recordkeeping associated with each report, 2 hours; notification of retention or transfer of rehabilitated animals, 2 hours.

Burden Hours: 7,716.

Needs and Uses: The information in this collection will be used to determine whether a proposed activity is consistent with the requirements of the Marine Mammal Protection Act, Fur Seal Act, and Endangered Species Act for issuance of permits and authorizations for research, enhancement, photography, and public display. Reports on activities are also required. The respondents will be researchers, photographers, other members of the general public, and holders of marine mammals in public display facilities.

Affected Public: Individuals or households; not-for-profit institutions; business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 31, 2009.
Gwellnar Banks,
Management Analyst, Office of the Chief Information Officer.

[FR Doc. E9-21275 Filed 9-2-09; 8:45 am]

BILLING CODE 3510-22-P